DEPARTMENT OF ENERGY

Federal Energy Regulatory Commission

[Project No. 2280-013; Seneca Nation of Indians]

FirstEnergy Generation Corporation Project No. 13889-000

Notice of Site Visit

On November 24, 2010, FirstEnergy, the current licensee, filed a notice of intent (NOI) and a pre-application document (PAD) for a license to continue to operate the Kinzua Pumped Storage Project No. 2280-013. On November 30, 2010, the Seneca Nation of Indians filed a competing NOI and PAD for a license for the Seneca Pumped Storage Project No. 13889-000. Both FirstEnergy and the Seneca Nation plan to use the Integrated Licensing Process (ILP). The project is located at the United States Army Corps of Engineers' Kinzua Dam, and to the United States Forest Service Allegheny National Forest, adjacent to the Allegheny River and the Allegheny Reservoir near the City of Warren, in Warren County, Pennsylvania. The project occupies 221.59 acres of federal lands.

On January 28, 2011, the Commission issued a Scoping Document containing a description of the existing project and proposed project facilities and mode of operation, a preliminary list of issues to be addressed in the Commission's National Environmental Policy Act (NEPA) environmental document, and a request for information and written comments.

On October 25, 2011, at 9 a.m. (E.D.T.), as part of the NEPA scoping process, Commission staff will hold a site visit at the Kinzua Pumped Storage Project—Seneca Pumped Storage Project. All participants interested in attending the site visit should meet at the Kinzua Dam Information Center parking lot in Warren, Pennsylvania. The information center is located below Kinzua Dam adjacent to the Allegheny River. All participants attending the site visit should be prepared to provide their own transportation. If you have any question please contact Gaylord Hoisington at (202) 502-6032 or gaylord.hoisington@ferc.gov.

Dated: September 28, 2011.
Kimberly D. Bose,
Secretary.

[FR Doc. 2011-25630 Filed 10-4-11; 8:45 am]

BILLING CODE 6717-01-P